SOCIAL SECURITY ADMINISTRATION

Ticket to Work and Work Incentives Advisory Panel Teleconference

AGENCY: Social Security Administration (SSA).

ACTION: Notice of teleconferences.

DATES: January 23, 2002 and January 24, 2002.

ADDRESSES: Ticket to Work and Work Incentives Advisory Panel Office, Social Security Administration, 400 Virginia Avenue, SW., Suite 700, Washington, DC 20024.

TELECONFERENCES: Wednesday, January 23, 2002, 3 p.m. to 6 p.m.; Thursday, January 24, 2002, 1 p.m. to 4 p.m.:

Ticket to Work and Work Incentives Advisory Panel Conference Calls. Call-in number for both days: 1-888-793-1765. Pass code for both days: 12211. Leader/Host: Sarah Wiggins Mitchell.

SUPPLEMENTARY INFORMATION: Type of meeting: These teleconference meetings are open to the public. The interested public is invited to participate by coming to the address listed above or calling into the teleconferences. Public testimony will not be taken.

Purpose: In accordance with section 10(a)(2) of the Federal Advisory Committee Act, the Social Security Administration (SSA) announces these teleconference meetings of the Ticket to Work and Work Incentives Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Agenda: The Panel will deliberate on the implementation of TWWIIA, conduct committee activities and administrative business. Topics of discussion may include the Panel's annual report and the Social Security Administration's adequacy of incentive study and $1 for $2 research. The agendas for these meetings will be posted on the Internet at http://www.ssa.gov/work/panel/ one week prior to the teleconferences or can be received in advance electronically or by fax upon request.

Contact Information: Records are being kept of all Panel proceedings and will be available for public inspection by appointment at the Panel office. Anyone requiring information regarding the Panel should contact the TWWIIA Panel staff by:

• Mail addressed to Ticket to Work and Work Incentives Advisory Panel Staff, Social Security Administration, 400 Virginia Avenue, SW., Suite 700, Washington, DC, 20024;

• Telephone contact with Kristen Breland at (202) 358-6430;

• Fax at (202) 358-6440; or

• E-mail to TWWIIAPanel@ssa.gov.

Dated: December 19, 2001.
Deborah M. Morrison,
Designated Federal Officer.

[FR Doc. 01-31896 Filed 12-27-01; 8:45 am]

BILLING CODE 4191-02-U